COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before July 22, 2004.

FOR FURTHER INFORMATION OR A COPY CONTACT: Kevin Walek, Division of Clearing and Intermediary Oversight, CFTC, (202) 418-5463; FAX: (202) 418-5536; email: kwalek@cftc.gov and refer to OMB Control No. 3038-0005.

SUPPLEMENTARY INFORMATION:

Title: Rules Relating to the Operations and Activities of Commodity Pool Operators and Commodity Trading Advisors and to Monthly Reporting by Futures Commission Merchants, (OMB Control No. 3038-0005). This is a request for revision of a currently approved information collection.

Abstract: Part 4 of the Commission's Regulations set forth the Commission's rules prescribing the disclosure of risk, the filing of reports, and the keeping of books and records. Each CPO who is registered or required to be registered and solicits prospective participants in a commodity pool must, absent an exemption, deliver to prospective participants, and file with the NFA, a Disclosure Document containing information specified by 4.24 and 4.25 before the CPO may accept funds or other property in exchange for participation in the pool. CTAs also must comply with the disclosure requirements of 4.34 and 4.35 before they may enter into an agreement to direct or to guide a client's commodity interest trading account.

Rule 4.22 requires that CPOs who are registered or required to be registered also must provide pool participants with an unaudited monthly or quarterly Account Statement for the poll, and an Annual Report for the pool that contains the net asset value of the pool and Statements of Financial Condition, Income (Loss), Changes in Financial Position, and Changes in Ownership Equity. Rule 4.23 for CPOs, and 4.33 for CTAs provide for the types of books and records that must be maintained by these registrants.

Section 133(d) requires each futures commission merchant (FCM) to furnish to a person that controls the account of the FCM's customer (e.g., a CTA) the same information that the FCM must furnish to the customers. Without this data, the person controlling the account lacks critical and timely information about the trades executed for the client's account.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on February 23, 2004 (69 FR 8181-01).

Burden statement: The respondent burden for this collection is estimated to average 6.5 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: Commodity Pool Operators, Commodity Trading Advisors, and Futures Commission Merchants.

Estimated number of respondents: 7,200.

Estimated total annual burden on respondents: 115,871 hours.

Frequency of collection: On occasion, quarterly, monthly, and annually.

Send comments regarding the burden estimated or any other aspect of the information collection, including suggestions for reducing the burden, to the addresses listed below. Please refer to OMB Control No. 3038-0005 in any correspondence.

Kevin Walek, Division of Clearing and Intermediary Oversight, U.S. Commodity Futures Trading Commission, 1155 21st Street, NW., Washington, DC 20581, and Office of Information and Regulatory Affairs, Office of Management and Budget, Attention: Desk Officer for CFTC, 725 17th Street, Washington, DC 20503.

Dated: June 15, 2004.
Jean A. Webb,
Secretary of the Commission.

[FR Doc. 04-14010 Filed 6-21-04; 8:45 am]

BILLING CODE 6351-01-M